SECURITIES AND EXCHANGE COMMISSION

[File No. 500-1]

In the Matter of Bio-Heal Laboratories, Inc.; Order of Suspension of Trading

April 8, 2005.

It appears to the Securities and Exchange Commission that the public interest and the protection of investors require a suspension of trading in the securities of Bio-Heal Laboratories, Inc. (“Bio-Heal”). The Commission is concerned that Bio-Heal may have unlawfully issued approximately 12 million shares of common stock in purported reliance on Rule 504 of Regulation D of the Securities Act of 1933. Bio-Heal, a company that is delinquent in its periodic filing obligations under Section 13(a) of the Securities Exchange Act of 1934 (“Exchange Act”), is quoted on the Pink Sheets under the ticker symbol BHLL.

The Commission is of the opinion that the public interest and the protection of investors require a suspension of trading in the securities of the above-listed company.

Therefore, it is ordered, pursuant to Section 12(k) of the Exchange Act, that trading in the above-listed company is suspended for the period from 9:30 a.m. e.d.t. April 8, 2005 through 11:59 p.m. e.d.t., on April 21, 2005.

By the Commission.
Margaret H. McFarland,
Deputy Secretary.

[FR Doc. 05-7414 Filed 4-8-05; 1:51 pm]

BILLING CODE 8010-01-P